OFFICE OF SCIENCE AND TECHNOLOGY POLICY

Draft Report on Strengthening the Medicolegal Death Investigation System: Improving Data Systems

ACTION: Notice of request for public comment.

SUMMARY: The nation's approximately 2,400 medical examiner and coroner (ME/C) jurisdictions investigate nearly 500,000 deaths each year and perform post-mortem examinations and/or autopsies to determine the cause of death. While the function and organization of these offices vary by state, medical examiners and coroners typically investigate deaths that are sudden and unexpected, deaths that have no attending physician, and all suspicious and violent deaths. Strengthening the ME/C system is critical for improving the accuracy and reliability of these death investigations and will benefit public health and safety programs, law enforcement investigations, and the development of interventions to prevent deaths nationwide.

The National Science and Technology Council's Fast Track Action Committee on Strengthening the Medicolegal Death Investigation System was chartered in July 2015 to make strategic policy recommendations at the Federal level on how to address issues related to accessing and working with data generated by ME/C offices. Importantly, these policy recommendations will not only strengthen medicolegal death investigations, but would also enhance public health and the integrity of the criminal justice system, and further public health and medical research. The Committee is seeking input on a series of specific questions, as well as general feedback on the content of the report.

DATES: Responses must be received by May 27, 2016 to be considered.

ADDRESSES: You may submit comments by any of the following methods:

• Web form: https://www.whitehouse.gov/webform/Medicolegal-Death-Investigation-System-Public-Comment

• Fax: (202) 456-6027, Attn: Eleanor Celeste.

• Mail: Attn: Eleanor Celeste, Office of Science and Technology Policy, Eisenhower Executive Office Building, 1650 Pennsylvania Ave. NW., Washington, DC 20504.

Instructions: Response to this Request for Public Comment is voluntary. Responses exceeding 1,000 words will not be considered. Please reference page numbers in your response, as appropriate. Submission via web form is preferred. Responses to this Request for Public Comment may be posted online without change online. The Office of Science and Technology Policy (OSTP) therefore requests that no business proprietary information, copyrighted information, or personally identifiable information be submitted in response to this request. Please note that the U.S. Government will not pay for response preparation, or for the use of any information contained in the response.

FOR FURTHER INFORMATION CONTACT: Eleanor Celeste, (202) 456-4444, Science@ostp.eop.gov, OSTP.

SUPPLEMENTARY INFORMATION: The 2009 National Research Council report “Strengthening Forensic Science in the United States: A Path Forward” described the current Medicolegal Death Investigation System (MDIS) as fragmented, inconsistent, and of insufficient quality for the needs of health, consumer safety, and law enforcement officials. The report identified a number of specific problems with the current system.

Many Federal agencies rely on the data generated by the MDIS to further their missions, and therefore share an interest in ensuring that these data are accurate, reliable, and readily accessible. In 2015, OSTP established under the National Science and Technology Council a Fast-Track Action Committee on Strengthening the Medicolegal Death Investigation System (FTAC-SMDIS) to identify and recommend strategic policy measures that can be implemented by Federal agencies in coordination with State and local agencies to improve the quality, uniformity, and availability of MDIS data in order to maximize the utility of these data for Federal purposes.

More than 12 Federal departments, agencies, and components of the Executive Office of the President comprised the FTAC-SMDIS. Together the group identified current uses of MDIS data by Federal agencies, existing barriers to accessing and working with these data, data quality issues, and opportunities for addressing those challenges. The group developed a report detailing specific recommendations on actions the Federal government as well as State, local, and Tribal entities can take on priority issues to improve data systems for the MDIS. SMDIS-FTAC now is seeking public comment on this report (available at: https://www.whitehouse.gov/sites/default/files/microsites/ostp/NSTC/strengthening_the_medicolegal_death_investigation_system_draft_for_public_comment_4_21.pdf) in advance of finalizing the document for publication. The Committee is seeking specific input on the following questions, as well as general feedback on the content of the report.

• Are there scientific and technical issues surrounding data quality and access within the MDI System that the FTAC should be aware of and include in its report?

• Are there additional recommendations to improve data systems that would be impactful to the MDI System, based on the scientific and technical literature?

Ted Wackler,
Deputy Chief of Staff and Assistant Director.

[FR Doc. 2016-10308 Filed 5-2-16; 8:45 am]

BILLING CODE 3270-F6-P